NUCLEAR REGULATORY COMMISSION

[Docket Number 030-08597]

Notice of Availability of Environmental Assessment and Finding of No Significant Impact for License Amendment for Northwest Missouri State University, Maryville, MO

AGENCY: Nuclear Regulatory Commission.

ACTION: Notice of availability of environmental assessment and finding of no significant impact.

FOR FURTHER INFORMATION CONTACT: Dr. Peter J. Lee, Division of Nuclear Materials Safety, U.S. Nuclear Regulatory Commission, Region III, 2443 Warrenville Road, Suite 210, Lisle, Illinois 60532-4352; telephone (630) 829-9870; or by e-mail at pjl2@nrc.gov.

SUPPLEMENTARY INFORMATION:

I. Introduction

The U.S. Nuclear Regulatory Commission (NRC) is considering the issuance of a license amendment to Byproduct Material License No. 24-15118-01 issued to Northwest Missouri State University (formerly known as Northwest Missouri State College) (the licensee), to terminate its license and authorize release of its Maryville, Missouri facility for unrestricted use.

The NRC staff has prepared an Environmental Assessment (EA) in support of this licensing action in accordance with the requirements of 10 CFR part 51. Based on the EA, the NRC has concluded that a Finding of No Significant Impact (FONSI) is appropriate. The amendment will be issued following the publication of this Notice.

II. Environmental Assessment Summary

The purpose of the proposed action is to terminate Northwest Missouri State University's license and release its Maryville, Missouri facility for unrestricted use. In May 1972, the NRC authorized Northwest Missouri State University to use radioisotopes such as phosphorus-32 (P-32), iodine-25 (I-25), tritium (H-3), and carbon-14 (C-14), etc. for laboratory experiments and teaching and training of students. On December 19, 2003, Northwest Missouri State University submitted a license amendment request to terminate its license and release its Maryville facility for unrestricted use. The staff has examined Northwest Missouri State University's request and the information that the licensee provided in support of its request. The NRC staff concluded that the proposed action complies with the license termination criteria in subpart E of 10 CFR part 20 for unrestricted release.

III. Finding of No Significant Impact

The staff has prepared the EA, summarized above, in support of Northwest Missouri State University's proposed license amendment to terminate its license and release the Maryville facility for unrestricted use. Based on its review, the staff has determined that the affected environment and the environmental impacts associated with the decommissioning of Northwest Missouri State University's facility were bounded by the impacts evaluated by the “Generic Environmental Impact Statement in Support of Rulemaking on Radiological Criteria for License Termination of NRC-Licensed Nuclear Facilities” (NUREG-1496). No outdoor areas were affected by the use of licensed materials. Additionally, no non-radiological impacts were identified. The staff also finds that the proposed release for unrestricted use of the Northwest Missouri State University's facility is in compliance with 10 CFR 20.1492. No other activities in the area that could have resulted in cumulative impacts. On the basis of the EA, the staff has concluded that the environmental impacts from the proposed action would not be significant. Accordingly, the staff has determined that a FONSI is appropriate, and has determined that the preparation of an Environmental Impact Statement is not warranted.

IV. Further Information

In accordance with 10 CFR 2.390 of the NRC's “Rules of Practice,” Northwest Missouri State University's request, the EA summarized above, and the documents related to this proposed action, are available electronically for public inspection and copying from the Publicly Available Records (PARS) component of NRC's document system (ADAMS). The NRC's document system is accessible from the NRC Web site at http://www.nrc.gov/reading-rm/adams.html. These documents include Northwest Missouri State University's NRC Form dated December 19, 2003, with enclosures (Accession No. ML041590566); and the EA summarized above (Accession No. ML041680287). These documents may also be viewed electronically on the public computers located at the NRC's Public Document Room (PDR), O 1 F21, One White Flint North, 11555 Rockville Pike, Rockville, MD 20852. The PDR reproduction contractor will copy documents for a fee. Persons who do not have access to ADAMS or who encounter problems in accessing the documents located in ADAMS, should contact the NRC PDR reference staff by telephone at 1-800-397-4209 or (301) 415-4737, or by e-mail to pdr@nrc.gov.

Dated at Lisle, Illinois, this 17th day of June, 2004.
Kenneth G. O'Brien,
Chief, Decommissioning Branch, Division of Nuclear Materials Safety, RIII.

[FR Doc. 04-14906 Filed 6-30-04; 8:45 am]

BILLING CODE 7590-01-P